DEPARTMENT OF THE INTERIOR

Bureau of Land Management

[NM220-1430 ES; NM-114207]

Recreation and Public Purposes (R&PP) Act Classification; New Mexico

AGENCY: Bureau of Land Management, Interior.

ACTION: Notice of realty action.

SUMMARY: The Bureau of Land Management (BLM) has determined that land located in Santa Fe County, New Mexico is suitable for classification for lease or conveyance to Santa Fe County under authority of the Recreation and Public Purposes Act (R&PP), as amended (43 U.S.C. 869 et seq.). The county plans to use the land for an organized, county recreation area.

DATES: Interested parties may submit comments to the BLM Taos Field Office Manager at the address below. Comments must be received by no later than July 2, 2007.

ADDRESSES: Address all written comments concerning this Notice to Sam DesGeorges, BLM Taos Field Office Manager, 226 Cruz Alta Road, Taos, New Mexico 87571.

FOR FURTHER INFORMATION CONTACT: Francina Martinez, Realty Specialist, at the above address or (505) 758-8851.

SUPPLEMENTARY INFORMATION: In accordance with section 7 of the Taylor Grazing Act, as amended, 43 U.S.C. 315f, the following described land has been examined and found suitable for classification for a non-profit, public purpose—specificially a site for a county owned and operated, organized recreation area; and the land is hereby classified accordingly. The land is located at:

New Mexico Principal Meridian

T. 20 N., R. 9 E.,

sec. 18, lots 17 and 18.

The area described contains 12.03 acres, more or less, in Santa Fe County.

Santa Fe County proposes to develop the lands to construct a recreational facility for the purpose of meeting a community need for an organized recreational site. The site would be leased for a period of 5 years with option to purchase after the site is developed according to the Santa Fe County Plan of Development. Conveying title to the affected public land is consistent with current BLM land use planning.

The lease or conveyance, when issued, would be subject to the following terms, conditions, and reservations:

1. Provisions of the R&PP Act and to all applicable regulations of the Secretary of the Interior.

2. A right-of-way for ditches and canals constructed by the authority of the United States, Act of August 30, 1890 (43 U.S.C. 945).

3. The United States will reserve all minerals together with the right to prospect for, mine, and remove the minerals.

4. Those rights for a road right-of-way granted to New Mexico Department of Transportation by permit No. NMNM 0023278.

Additional detailed information concerning this Notice of Realty Action, including environmental documents, are available for review at the address above.

Upon publication of this notice in the Federal Register, the lands described above will be segregated from all other forms of appropriation under the public land laws, including the mining and mineral leasing laws, except for lease or conveyance under the R&PP Act.

Comments may be submitted regarding the proposed classification, lease or conveyance of the land to the Field Office Manager, BLM Taos Field Office, for a period of 45 days from the date of publication of this notice in the Federal Register. Only written comments will be accepted. Before including your address, phone number, e-mail address, or other personal identifying information in your comment, you should be aware that your entire comment—including your personal identifying information—may be made publicly available at any time. While you can ask us in your comment to withhold your personal identifying information from public review, we cannot guarantee that we will be able to do so.

You may submit comments regarding the suitability of the lands for a recreation facility site. Comments on the classification are restricted to four subjects:

(1) Whether the land is physically suited for the proposal;

(2) Whether the use will maximize the future use or uses of the land;

(3) Whether the use is consistent with local planning and zoning; and

(4) If the use is consistent with State and Federal programs.

Comments may be submitted regarding the specific use proposed in the application and plan of development, and whether the BLM followed proper administrative procedures in reaching the decision.

The State Director will review any adverse comments. In the absence of adverse comment, the classification will become effective 60 days from the date of publication of this notice in the Federal Register. The land will not be offered for lease or conveyance until after the classification becomes effective.

(Authority: 43 CFR 2741.5)

Sam DesGeorges,
Field Office Manager.

[FR Doc. E7-9528 Filed 5-16-07; 8:45 am]

BILLING CODE 4310-FB-P